DEPARTMENT OF DEFENSE

Department of the Army

Intent To Prepare an Environmental Impact Statement (EIS) for Disposal and Reuse of Fort McPherson, GA, Resulting From the 2005 Base Closure and Realignment Commission's Recommendations

AGENCY: Department of the Army, DoD

ACTION: Notice of Intent (NOI).

SUMMARY: The Department of the Army intends to prepare an EIS for the disposal and reuse of Fort McPherson in Atlanta, Georgia. Pursuant to the BRAC law, Fort McPherson is to close by September 14, 2011. Other actions included in the closing of Fort McPherson are relocating the tenant headquarters organizations to Fort Sam Houston, Texas; Fort Eustis, Virginia; Pope air Force Base (AFB), North Carolina; and Shaw AFB, South Carolina. These relocations have been or will be addressed in separate National Environmental Policy Act documents for those locations.

ADDRESSES: For further information regarding the EIS, please contact Mr. Victor Bonilla, BRAC Environmental Division, 2053 North D Avenue, Building 400, Fort Gillem, GA 30297-5161.

FOR FURTHER INFORMATION CONTACT: Mr. Bonilla at (404) 469-3557; fax: (404) 469-3565; e-mail: bonillav@forscom.army.mil.

SUPPLEMENTARY INFORMATION: Fort McPherson is a 487-acre installation located approximately 4 miles southwest of downtown Atlanta and 3 miles north of Hartsfield-Jackson Atlanta International Airport.

The proposed action (Army primary action) is to dispose of the surplus property generated by the BRAC-mandated closure of Fort McPherson. Reuse of Fort McPherson by others is a secondary action resulting from disposal. The Army has identified two disposal alternatives (early transfer and traditional disposal), a caretaker status alternative, and the no action alternative (as required by the National Environmental Policy Act). Reuse scenarios are evaluated as secondary actions.

The EIS will analyze each alternative's impact upon a wide range of environmental resource areas including, but not limited to, air quality, traffic, noise, biological resources, cultural resources, socioeconomic, utilities, land use, hazardous and toxic substances, and cumulative environmental effects. Impacts to air quality conditions in the region, traffic conditions, land use, and community facilities and services could possibly be significant. Additional resources and conditions may be identified as a result of the scoping process initiated by this NOI.

Opportunities for public participation will be announced in the respective local news media. The public will be invited to participate in scoping activities for the EIS and comments from the public will be considered before any action is taken to implement the disposal and reuse of Fort McPherson.

Dated: November 9, 2007.
Addison D. Davis, IV,
Deputy Assistant Secretary of the Army (Environment, Safety and Occupational Health).

[FR Doc. 07-5702 Filed 11-16-07; 8:45 am]

BILLING CODE 3710-08-M